COMMODITY FUTURES TRADING COMMISSION

Sunshine Act Meeting

“FEDERAL REGISTER” CITATION OF PREVIOUS ANNOUNCEMENT: 65 FR 65843; 65 FR 64687.

PREVIOUSLY ANNOUNCED TIME AND DATE OF MEETING: 1 p.m., Wednesday, November 1, 2000.

CHANGES IN THE MEETING: The open meeting previously scheduled for 1 p.m., Wednesday, November 1, 2000 has been postponed until 1 p.m., Monday, November 6, 2000.

CONTACT PERSON FOR MORE INFORMATION: Jean A. Webb, 418-5100.

Jean A. Webb,
Secretary of the Commission.

[FR Doc. 00-28351 Filed 11-1-00; 11:24 am]

BILLING CODE 6351-01-M